POSTAL RATE COMMISSION

Sunshine Act Meetings

AGENCY: Postal Rate Commission (PRC).

Time and Date: Convening on Wednesday, October 5, 2005 at 2:30 p.m. and continuing daily thereafter as needed, after 9:30 a.m., until completed.

Place: Commission conference room, 901 New York Avenue, NW., Suite 200, Washington, DC 20268-0001.

Status: Closed.

Matters to be considered: Recommendations in Docket No. R2005-1.

FOR FURTHER INFORMATION CONTACT: Stephen L. Sharfman, General Counsel, Postal Rate Commission, 202-789-6820.

Dated: September 22, 2005.
Steven W. Williams,
Secretary.

[FR Doc. 05-19310 Filed 9-22-05; 4:41 pm]

BILLING CODE 7710-FW-M